DEPARTMENT OF LABOR

Employment and Training Administration

[TA-W-40,147, TA-W-40,147B, and TA-W-40,147C]

Guilford Mills, Inc.; Cobleskill, New York, Guilford Mills, Inc., Apparel Home Fashion Division, Greensboro, North Carolina, and Guilford Mills, Inc., Corporate Division, Greensboro, North Carolina; Amended Notice of Revised Determination on Reconsideration

In accordance with section 223 of the Trade Act of 1974 (19 U.S.C. 2273) the Department of Labor issued a Revised Determination on Reconsideration on May 9, 2002, applicable to workers of Guilford Mills, Inc., Cobleskill, New York. The notice will be published soon in the Federal Register.

At the request of the company, the Department reviewed the certification for workers of the subject firm. The workers were engaged in the production of lace and fabric for apparel.

The company reports that worker separations occurred at the Apparel Home Fashion Division and the Corporate Division facilities of the subject firm. These divisions provide sales and administrative support function services directly for the Cobleskill, New York production facility.

Based on these findings, the Department is amending the certification to include workers of Guilford Mills, Inc., Apparel Home Fashion Division and Corporate Division, Greensboro, North Carolina.

The intent of the Department's certification is to include all workers of Guilford Mills, Inc. who were adversely affected by increased imports.

The amended notice applicable to TA-W-40,147 is hereby issued as follows:

“All workers of Guilford Mills, Inc., Cobleskill, New York (TA-W-40,147), Guilford Mills, Apparel Home Fashion Division, Greensboro, North Carolina (TA-W-40,147B) and Guilford Mills, Inc., Corporate Division, Greensboro, North Carolina (TA-W-40,147C) who became totally or partially separated from employment on or after September 21, 2000, through May 9, 2004, are eligible to apply for adjustment assistance under Section 223 of the Trade Act of 1974.”

Signed at Washington, DC, this 20th day of May, 2002.
Linda G. Poole,
Certifying Officer, Division, of Trade Adjustment Assistance.

[FR Doc. 02-13934 Filed 6-3-02; 8:45 am]

BILLING CODE 4510-30-P